DEPARTMENT OF THE INTERIOR

National Park Service

Notice of Inventory Completion for Native American Human Remains and Associated Funerary Objects in the Possession of the Minnesota Indian Affairs Council, St. Paul and Bemidji, MN; Correction

AGENCY: National Park Service, Interior.

ACTION: Notice; correction.

Notice is here given in accordance with the Native American Graves Protection and Repatriation Act (NAGPRA), 25 U.S.C. 3003, of the completion of an inventory of human remains in the possession of the Minnesota Indian Affairs Council, St. Paul and Bemidji, MN. The human remains were removed from Goodhue County, MN.

This notice is published as part of the National Park Service's administrative responsibilities under NAGPRA, 25 U.S.C. 3003 (d)(3). The determinations in this notice are the sole responsibility of the museum, institution, or Federal agency that has control of the Native American human remains and associated funerary objects. The National Park Service is not responsible for the determinations in this notice.

This notice is an addition of a minimum number individuals removed from the Bryan site (21GD4), Goodhue County, MN, which were previously described in a Notice of Inventory Completion published in the Federal Register of July 23, 1999 (FR Doc 99-18890, pages 40039-40040). An additional seven individuals were discovered in the collection.

In the Federal Register of July 23, 1999, the notice is corrected by adding the following paragraphs:

In 1983, human remains representing a minimum of six individuals were removed from the Bryan site (21GD4), Goodhue County, MN, during archeological excavations conducted by the University of Minnesota. No known individuals were identified. No associated funerary objects are present.

In 1999-2000, human remains representing a minimum of one individual were removed from the Bryan site (21GD4), Goodhue County, MN, during archeological excavations conducted by the Institute for Minnesota Archaeology. No known individual was identified. No associated funerary objects are present.

In the Federal Register of July 23, 1999, paragraph numbers 30 and 31 are corrected by substituting the following paragraphs:

Officials of the Minnesota Indian Affairs Council have determined that, pursuant to 25 U.S.C. 3001 (9-10), the human remains described above represent the physical remains of 124 individuals of Native American ancestry. Officials of the Minnesota Indian Affairs Council have also determined that, pursuant to 25 U.S.C. 3001 (3)(A), the 57 objects described above are reasonably believed to have been placed with or near individual human remains at the time of death or later as part of the death rite or ceremony. Lastly, officials of the Minnesota Indian Affairs Council have determined that, pursuant to 25 U.S.C. 3001 (2), there is a relationship of shared group identity that can be reasonably traced between the Native American human remains and associated funerary objects and the Iowa Tribe of Kansas and Nebraska, Iowa Tribe of Oklahoma, and Otoe-Missouria Tribe of Indians, Oklahoma.

Representatives of any other Indian tribe that believes itself to be culturally affiliated with the human remains and associated funerary objects should contact Mr. James L. (Jim) Jones, Cultural Resource Director, Minnesota Indian Affairs Council, 3801 Bemidji Avenue North, Suite 5, Bemidji, MN 56601, telephone (218) 755-3223, before September 29, 2008. Repatriation of the human remains and associated funerary objects to the Iowa Tribe of Kansas and Nebraska, Iowa Tribe of Oklahoma, and Otoe-Missouria Tribe of Indians, Oklahoma may proceed after that date if no additional claimants come forward.

The Minnesota Indian Affairs Council is responsible for notifying the Iowa Tribe of Kansas and Nebraska, Iowa Tribe of Oklahoma, and Otoe-Missouria Tribe of Indians, Oklahoma that this notice has been published.

Dated: August 4, 2008.
Sherry Hutt,
Manager, National NAGPRA Program.

[FR Doc. E8-20106 Filed 8-28-08; 8:45 am]

BILLING CODE 4312-50-S